DEPARTMENT OF ENERGY

Federal Energy Regulatory Commission

[Docket No. EG01-37-000, et al.]

Duke Energy Lee, LLC, et al.; Electric Rate and Corporate Regulation Filings

February 7, 2001.

Take notice that the following filings have been made with the Commission:

1. Duke Energy Lee, LLC.

[Docket No. EG01-37-000]

Take notice that on January 18, 2001, Duke Energy Lee, LLC (Duke Lee) filed a response to the Federal Energy Regulatory Commission's (Commission) request for additional information regarding the reference to engaging in gas storage activities contained in Duke Lee's Application for Determination of Exempt Wholesale Generator Status which was filed with the Commission on November 30, 2000. Duke Lee hereby requests that the reference to “gas storage” be stricken from the Application.

Comment date: February 21, 2001, in accordance with Standard Paragraph E at the end of this notice. The Commission will limit its consideration of comments to those that concern the adequacy or accuracy of the application.

2. PPL Brunner Island, LLC

[Docket No. EG01-39-000]

Take notice that on February 2, 2001, PPL Brunner Island, LLC tendered for filing a Request for Redetermination of Exempt Wholesale Generator Status.

Comment date: February 28, 2001, in accordance with Standard Paragraph E at the end of this notice. The Commission will limit its consideration of comments to those that concern the adequacy or accuracy of the application.

3. PPL Holtwood, LLC

[Docket No. EG01-40-000]

Take notice that on February 2, 2001, PPL Holtwood, LLC tendered for filing a Request for Redetermination of Exempt Wholesale Generator Status.

Comment date: February 28, 2001, in accordance with Standard Paragraph E at the end of this notice. The commission will limit its consideration of comments to those that concern the adequacy or accuracy of the application.

4. PPL Martins Creek, LLC

[Docket No. EG01-41-000]

Take notice that on February 2, 2001, PPL Martins Creek, LLC tendered for filing a Request for Redetermination of Exempt Wholesale Generator Status.

Comment date: February 28, 2001, in accordance with Standard Paragraph E at the end of this notice. The Commission will limit its consideration of comments to those that concern the adequacy or accuracy of the application.

5. PPL Susquehanna, LLC

[Docket No. EG01-43-000]

Take notice that on February 2, 2001, PPL Susquehanna, LLC tendered for filing a Request for Redetermination of Exempt Wholesale Generator Status.

Comment date: February 28, 2001, in accordance with Standard Paragraph E at the end of this notice. The Commission will limit its consideration of comments to those that concern the adequacy or accuracy of the application.

6. Duke Energy Hinds, LLC

[Docket No. EG01-65-000]

Take notice that on January 18, 2001, Duke Energy Hinds, LLC (Duke Hinds) filed an amendment with the Federal Energy Regulatory Commission (the Commission) to its Application for Commission Determination of Exempt Wholesale Generator Status which was filed in the above-referenced docket on December 15, 2000.

Duke Hinds requests that the reference to “gas storage” activities be stricken from its Application. Duke Hinds has also requested expedited consideration of its Application as modified.

Comment date: February 21, 2001, in accordance with Standard Paragraph E at the end of this notice. The Commission will limit its consideration of comments to those that concern the adequacy or accuracy of the application.

7. Duke Energy Audrain, LLC

[Docket No. EG01-97-000]

Take notice that on February 5, 2001, Duke Energy Audrain, LLC (Duke Audrain) tendered a withdrawal of its January 3, 2001 application for determination of exempt wholesale generator status and its January 18, 2001 amendment of such application.

Comment date: February 28, 2001, in accordance with Standard Paragraph E at the end of this notice. The Commission will limit its consideration of comments to those that concern the adequacy or accuracy of the application.

8. Copper Valley Electric Association, Inc., the City of Petersburg Alaska, and the City of Wrangell, Alaska

[Docket No. EL01-32-000]

Take notice that on February 1, 2001, Copper Valley Electric Association, Inc., the City of Petersburg, Alaska, d/b/a Petersburg Municipal Power and Light, and the City of Wrangell, Alaska, d/b/a Wrangell Municipal Light and Power (collectively, Petitioners) submitted an Application for Limited Waiver of Regulations Implementing PURPA § 210, or in the Alternative, Request for Confirmation of Treatment of Avoided Cost. Petitioners are seeking a limited waiver of any obligation that they may have under PURPA to displace purchases from the Four Dam Pool Initial Project, with purchases from a project certified under PURPA as a qualifying facility. Alternatively, Petitioners request that the Commission confirm that a proper calculation of “avoided costs” under PURPA should reflect the avoided costs of the Four Dam Pool Initial Project, and grant any waivers necessary to permit the requested confirmation of the avoided cost calculation.

Comment date: February 22, 2001, in accordance with Standard Paragraph E at the end of this notice.

9. North Central Missouri Electric Cooperative, Inc.

[Docket No. ES01-18-000]

Take notice that on February 2, 2001, North Central Missouri Electric Cooperative, Inc. (North Central) filed an application pursuant to section 204 of the Federal Power Act seeking authorization to make borrowings under a long-term loan agreement with the National Rural Utilities Cooperative Finance Corporation in the form of two promissory notes in the amounts of $5,138,617.81 and $861,382.10.

North Central also requests a waiver of the Commission's competitive bidding and negotiated placement requirements at 18 CFR 34.2.

Comment date: February 28, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 01-3722 Filed 2-13-01; 8:45 am]

BILLING CODE 6717-01-U